DEPARTMENT OF ENERGY

Federal Energy Regulatory Commission

[Project No. 4914-010-WI De Pere Hydroelectric Project]

International Paper Company; Notice of Availability of Environmental Assessment

July 8, 2004.

In accordance with the National Environmental Policy Act of 1969 and the Federal Energy Regulatory Commission's (Commission) regulations, 18 CFR 380 (Order No. 486; 52 FR 47897), the staff of the Office of Energy Projects (staff) has reviewed the application for a subsequent license for the De Pere Hydroelectric Project No. 4914 and has prepared an Environmental Assessment (EA) for the project. The De Pere Hydroelectric Project is located at the U.S. Army Corps of Engineers' (COE) De Pere Dam, on the Fox River, in the City of De Pere, Brown County, Wisconsin.

The EA contains the staff's analysis of the potential environmental impacts of the project and concludes that licensing the project, with appropriate environmental protective measures, would not constitute a major Federal action that would significantly affect the quality of the human environment.

A copy of the EA is available for review at the Commission in the Public Reference Room, located at 888 First Street, NE., Room 2A, Washington, DC 20426, or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659.

You may also register online at http://www.ferc.gov/esubscribenow.htm to be notified via e-mail of new filings and issuances related to this or other pending projects.

Because staff intends this to be the only EA prepared for this project, any comments on this EA should be filed within 30 days from the date of this notice and should be addressed to: Magalie R. Salas, Secretary, Federal Energy Regulatory Commission, 888 First Street, NE., Washington, DC 20426. Please affix “De Pere Hydroelectric Project No. 4914-010” to all comments. For further information, contact Peter Leitzke at (202) 502-6059 or peter.leitzke@ferc.gov.

Comments may be filed electronically via the Internet in lieu of paper. The Commission strongly encourages electronic filings. See 18 CFR 385.2001(a)(1)(iii) and the instructions on the Commission's Web site http://www.ferc.gov under the “e-Filing” link.

Magalie R. Salas,
Secretary.

[FR Doc. E4-1532 Filed 7-13-04; 8:45 am]

BILLING CODE 6717-01-P